DEPARTMENT OF JUSTICE

Notice of Lodging of a Consent Decree Under the Clean Water Act

Notice is hereby given that on November 13, 2009, a proposed Consent Decree in United States v. City of Akron, Ohio and State of Ohio, Civil Action No. 05:09-cv-0272 was lodged with the United States District Court for the Northern District of Ohio.

In this action the United States, and the State of Ohio in a cross-claim, sought civil penalties and injunctive relief for violations of the Clean Water Act, 33 U.S.C. 1251 et seq., in connection with the City of Akron's (“Akron's”) operation of its municipal wastewater treatment facility and sewer system. The United States' First Amended Complaint and the State's cross-claim allege, among other things, that Akron violated the Clean Water Act and its National Pollution Discharge Elimination System (“NPDES”) Permit by discharging pollutants from Combined Sewer Overflow (“CSO”) points to navigable waters and waters of the State during dry weather, and during wet weather in a manner that violates the general effluent limitations of the NPDES Permit; diverting wastewater from secondary treatment at the treatment plant, known as the Water Pollution Control Station (“WPCS”); failing to monitor or report the results of its monitoring; and releasing untreated sewage from its sewer system into buildings and onto public and private property.

Under the proposed Decree, Akron will develop and implement a comprehensive plan to eliminate or reduce (i) combined sewer overflows in its sewer system and (ii) bypasses around secondary treatment at the WPCS. Within eight years, Akron will expand secondary treatment capacity at the WPCS to at least 130 million gallons of wastewater per day and will construct separate sewer lines for five combined sewer outfall points. Akron will also implement capacity, maintenance and emergency response programs to improve sewer system performance and to eliminate or reduce releases from the sewer collection system, including basement backups, releases into buildings, and onto property. The proposed Decree requires Akron to pay a total civil penalty of $500,000. Also, as a State Supplemental Environmental Project to improve water quality in the Cuyahoga River, Akron will pay $900,000 towards the removal of the Brecksville (or Route 82) Dam.

The Department of Justice will receive for a period of sixty (60) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. City of Akron, Ohio and State of Ohio, D.J. Ref. 90-5-1-1-3144/2.

The proposed Consent Decree may be examined at the Office of the United States Attorney, Northern District of Ohio, 208 Federal Building, Two South Main Street, Akron, OH 44308-1855 (contact Assistant United States Attorney James Bickett (330/761-0523), and at U.S. Environmental Protection Agency, Region 5, 77 West Jackson Boulevard, Chicago, IL 60604-3590 (contact Associate Regional Counsel Susan Perdomo (312/886-0557)). During the public comment period the proposed Consent Decree may also be examined on the following Department of Justice Web site, http://www.usdoj.gov/enrd/Consent_Decrees.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $29.50 (25 cents per page reproduction cost) payable to the U.S. Treasury or, if by e-mail or fax, forward a check in that amount to the Consent Decree Library at the stated address.

Maureen M. Katz,
Assistant Section Chief, Environmental Enforcement Section, Environment and Natural Resources Division.

[FR Doc. E9-28221 Filed 11-24-09; 8:45 am]

BILLING CODE 4410-15-P